DEPARTMENT OF THE INTERIOR

Bureau of Land Management

43 CFR Parts 3200 and 3280

[WO-310-06-1310-GEOT]

RIN 1004-AD86

Minerals Management Service

30 CFR Parts 202, 206, 210, 217, and 218

[WO-310-06-1310-GEOT]

RIN 1010-AD32

Implementation of the Geothermal Sections of the Energy Policy Act of 2005; Public Meeting

AGENCY: Bureau of Land Management and Minerals Management Service, Interior.

ACTION: Notice of public meeting.

SUMMARY: A public meeting is being held by the Bureau of Land Management and the Minerals Management Service to receive comments from the public and industry related to the two sets of draft rules that were written in response to the Energy Policy Act of 2005, which mandated comprehensive changes to leasing and royalty policies to encourage geothermal energy use without imposing additional administrative burdens on industry or governmental agencies.

DATES: The meeting date is scheduled as follows: August 31, 2006; 1-4 p.m., Reno, Nevada.

ADDRESSES: The meeting will be held at the following location: Reno Hilton Hotel, 2500 East 2nd Street, Reno, Nevada 89595.

FOR FURTHER INFORMATION CONTACT: Kermit Witherbee, National Geothermal Program Lead for the BLM at (202) 452-0385 or Herb Black, Geologist, Solid Minerals and Geothermal Compliance and Asset Management, for MMS at (303) 231-3769.

SUPPLEMENTARY INFORMATION: The meeting will begin with an overview of the revisions proposed by BLM (71 FR 41542, July 21, 2006) and MMS (71 FR 41516, July 21, 2006) to their respective geothermal rules as mandated by the Energy Policy Act. Participants who request to speak will be given a set amount of time to address the proposed rules.

Philip Allard,
Acting Assistant Director, Minerals, Realty and Resource Protection.
Lonnie Kimball,
Acting Associate Director for Mineral Revenue, Minerals Management Service.

[FR Doc. 06-6888 Filed 8-14-06; 8:45 am]

BILLING CODE 4310-84-P